DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board (DHB) Health Care Delivery Subcommittee will take place.

DATES:

Wednesday, December 14, 2016

8:00 a.m.-12:00 p.m. (Preparatory Session)

12:00 p.m.-2:00 p.m. (Open Session)

2:00 p.m.-3:00 p.m. (Preparatory Session)

ADDRESSES: Defense Health Headquarters (DHHQ), Pavilion Salon A, 7700 Arlington Blvd., Falls Church, Virginia 22042 (escort required; see guidance in SUPPLEMENTARY INFORMATION, “Public's Accessibility to the Meeting”).

FOR FURTHER INFORMATION CONTACT: The Executive Director (Acting) of the Defense Health Board is CAPT Juliann Althoff, 7700 Arlington Boulevard, Suite 5101, Falls Church, Virginia 22042, (703) 681-6653, Fax: (703) 681-9539, juliann.m.althoff.mil@mail.mil. For meeting information, please contact Ms. Kendal Brown, 7700 Arlington Boulevard, Suite 5101, Falls Church, Virginia 22042, kendal.l.brown2.ctr@mail.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150.

Electronic registration is available at the following link: http://www.surveygizmo.com/s3/3191755/December-14-Meeting-Registration.

Purpose of the Meeting

The purpose of the meeting is for the Health Care Delivery Subcommittee members to receive public comments concerning pediatric health care services during an open forum. The Subcommittee is examining opportunities to improve the overall provision of health care and related services for children of members of the Armed Forces to better promote the health of this beneficiary population and potentially realize cost savings for the Military Health System. The focus of this meeting will be on the primary and specialty care aspects of the tasking (excluding behavioral/mental health care) to the Subcommittee as outlined below:

• Identify the extent to which children receive developmentally appropriate and age appropriate health care services, including clinical preventive services, in both the direct care and purchased care components.

• Evaluate whether children have ready access to primary and specialty pediatric care.

• Address any issues associated with the TRICARE definition of “medical necessity” as it might specifically pertain to children and determine if the requirement for TRICARE to comply with Medicare standards disadvantages children from receiving needed health care.

Comments from the public can range from insight on pediatric-related health issues to personal accounts and objective input.

Agenda

Pursuant to 5 U.S.C. 552b and 41 CFR 102-3.140 through 102-3.165 and subject to availability of space, the DHB Health Care Delivery Subcommittee meeting is open to the public from 12:00 p.m. to 2:00 p.m. on December 14, 2016. The DHB Health Care Delivery Subcommittee anticipates receiving public comments on pediatric-related health services issues. The DFO, in conjunction with the Subcommittee Chair, may restrict speaking time per person to an estimated 3-5 minutes. Additional comments, however, may be submitted in writing (see guidance in this SUPPLEMENTARY INFORMATION, “Written Statements” section). Any changes to the agenda can be found at the link provided in this SUPPLEMENTARY INFORMATION section.

Availability of Materials for the Meeting

A copy of the agenda or any updates to the agenda for the December 14, 2016 meeting, as well as any other materials presented in the meeting, may be obtained at the meeting.

Public's Accessibility to the Meeting

Pursuant to 5 U.S.C. 552b, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Thursday, December 8, 2016 to register and make arrangements for a DHHQ escort, if necessary. Public attendees requiring escort should arrive at the DHHQ Visitor's Entrance with sufficient time to complete security screening no later than 11:30 a.m. on December 14. To complete security screening, please come prepared to present two forms of identification, one of which must be a picture identification card.

Special Accommodations

Individuals requiring special accommodations to access the public meeting should contact Ms. Kendal Brown at least five (5) business days prior to the meeting so that appropriate arrangements can be made.

Written Statements

Any member of the public wishing to provide comments to the DHB Health Care Delivery Subcommittee may do so in accordance with section 10(a)(3) of the Federal Advisory Committee Act, 41 CFR 102-3.105(j) and 102-3.140, and the procedures described in this notice.

Individuals desiring to provide comments to the DHB Health Care Delivery Subcommittee may do so by submitting a written statement to the DHB Designated Federal Officer (DFO) (see FOR FURTHER INFORMATION CONTACT). Written statements should not be longer than two type-written pages and address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the Subcommittee Chair and ensure they are provided to members of the Health Care Delivery Subcommittee before the meeting that is subject to this notice. After reviewing the written comments, the Subcommittee Chair and the DFO may choose to invite the submitter to orally present their issue during an open portion of this meeting or at a future meeting. The DFO, in consultation with the Subcommittee Chair, may allot time for members of the public to present their issues for review and discussion by the Health Care Delivery Subcommittee.

Dated: November 23, 2016.
Aaron Siegel,
Alternate OSD Federal Register Liaison Officer, Department of Defense.

[FR Doc. 2016-28674 Filed 11-28-16; 8:45 am]

BILLING CODE 5001-06-P